DEPARTMENT OF ENERGY

Federal Energy Regulatory Commission

[Project No. 5824-013]

Notice of Transfer of Exemption: Webster Hydro Electric Company, Inc; West Dudley Hydro LLC

1. By letter filed April 3, 2025, Webster Hydro Electric Company, Inc and West Dudley Hydro LLC informed the Commission that the exemption from licensing for the North Village Pond Project No. 5824, originally issued May 27, 1982,¹ has been transferred to West Dudley Hydro LLC. The project is located on the French River in Worcester County, Massachusetts. The transfer of an exemption does not require Commission approval.

¹ Webster Hydro Electric Company, Inc., 19 FERC ¶ 62,361 (1982) (Order Granting Exemption from Licensing of a Small Hydroelectric Project of 5 Megawatts or Less).

2. West Dudley Hydro LLC, located at 17 Mark Avenue, Webster, Massachusetts 01570 is now the exemptee of the North Village Pond Project No. 5824.

Dated: April 21, 2025.
Debbie-Anne A. Reese,
Secretary.

[FR Doc. 2025-07151 Filed 4-24-25; 8:45 am]

BILLING CODE 6717-01-P